NUCLEAR REGULATORY COMMISSION

[NRC-2009-0231; EA-09-131]

In the Matter of General Motors Corporation, Detroit, MI; Demand for Information

I

The Nuclear Regulatory Commission (NRC or Commission) is issuing this Demand for Information because it is our understanding that General Motors Corporation (GM) possesses radioactive material in the form of tritium in exit signs. Because GM possesses radioactive material in this form, it holds what is referred to as a “general license” to possess such material. In this case, GM's general license has been issued by the NRC pursuant to section 31.5 in Part 10 of the Code of Federal Regulations (10 CFR 31.5). This general license authorizes GM, the licensee, to receive, possess, use, or transfer, in accordance with the provisions of paragraphs (b), (c) and (d) of 10 CFR 31.5, radioactive material contained in devices designed and manufactured for the purpose of producing light.

II

On December 7, 2006, NRC issued Regulatory Issue Summary (RIS) 2006-25, “Requirements for the Distribution and Possession of Tritium Exit Signs and the Requirements in 10 CFR 31.5 and 32.51a.” This RIS was issued in part to remind general licensees of the requirements in 10 CFR 31.5 regarding transfer and disposal of tritium exit signs. It was NRC's intent that issuance of this RIS would minimize the chances of improper disposal of tritium exit signs.

Despite the publication of the RIS in 2006, NRC has reason to believe that certain general licensees may lack awareness of their responsibility to account for and properly dispose of tritium exit signs. Therefore, the NRC needs further information to determine whether we can have reasonable assurance that general licensees are complying with NRC regulations applying to the possession, transfer, and disposal of tritium exit signs.

III

Accordingly, pursuant to sections 161c, 161o, 182 and 186 of the Atomic Energy Act of 1954, as amended, and the Commission's regulations in 10 CFR 2.204 and 10 CFR 31.5, the NRC seeks information in order to determine whether additional regulatory action should be taken to ensure compliance with NRC requirements. Within 60 days of the date of this Demand for Information, GM must submit a written answer to the Director, Office of Federal and State Materials and Environmental Management Programs, U.S. Nuclear Regulatory Commission, Washington, DC 20555-0001. GM's answer must be submitted under oath or affirmation, and it must provide the following information:

A. Explain how GM ensures compliance with the NRC requirements applying to the possession, transfer, and disposal of tritium exit signs GM has acquired. Identify and provide contact information for the individual GM has appointed who is responsible for ensuring day to day compliance with these requirements;

B. State the number of tritium exit signs GM currently possesses and the number of signs that, according to GM's records, should be in GM's possession.

C. Explain the reasons for any discrepancy between the number of tritium exit signs GM currently possesses and the number of signs that should be in GM's possession.

D. Describe any actions GM has taken or plans to take, to locate tritium exit signs that should be, but are not, in GM's possession.

E. Describe any actions GM has taken or plans to take, to prevent future losses of tritium exit signs.

After reviewing GM's response, the NRC will determine whether further action is necessary to ensure compliance with regulatory requirements.

The Director, Office of Federal and State Materials and Environmental Management Programs, may, in writing, relax or rescind any of the above conditions upon demonstration by the Licensee of good cause, such as a particularly large number of signs spread over multiple locations. If GM believes GM cannot report the results within the 60-day deadline, GM may forward a request to extend the deadline. Extensions will be granted if GM can reasonably demonstrate an inability to meet the deadline. Additionally, any other requirement can be relaxed or rescinded, as long as GM can reasonably demonstrate why that requirement should be relaxed or rescinded. Such requests may be emailed to MSEA@nrc.gov or faxed to Angela McIntosh at (301) 415-5955. Questions about this Demand for Information may be referred to Tritium Exit Sign Inventory Support at (301) 415-3340.

Send responses to: Director, Office of Federal and State Materials and Environmental Management Programs, Attention: Angela R. McIntosh, Mail Stop T8-E24, U.S. Nuclear Regulatory Commission, Washington, DC 20555.

Dated this 29 day of May 2009.
For the Nuclear Regulatory Commission.
Cynthia A. Carpenter,
Director, Office of Enforcement.

[FR Doc. E9-13709 Filed 6-10-09; 8:45 am]

BILLING CODE 7590-01-P